DEPARTMENT OF THE INTERIOR

Bureau of Land Management

[OR-958-6333-ET; GPO-0159; OR-52939]

Public Land Order No. 7445; Withdrawal of Public Lands for the Row River Trail; Oregon

AGENCY: Bureau of Land Management, Interior.

ACTION: Public land order.

SUMMARY: This order withdraws 189.31 acres of public lands from surface entry and mining for a period of 20 years for the Bureau of Land Management to protect the Row River Trail. An additional 11.41 acres of non-Federal lands, if acquired by the United States, would also be withdrawn by this order. The public lands have been and will remain open to mineral leasing.

EFFECTIVE DATE: May 12, 2000.

FOR FURTHER INFORMATION CONTACT: Charles R. Roy, BLM Oregon/Washington State Office, P.O. Box 2965, Portland, Oregon 97208-2965; 503-952-6189.

By virtue of the authority vested in the Secretary of the Interior by Section 204 of the Federal Land Policy and Management Act of 1976, 43 U.S.C. 1714 (1994), it is ordered as follows:

1. Subject to valid existing rights, the following described public lands are hereby withdrawn from settlement, sale, location, or entry under the general land laws, including the United States mining laws (30 U.S.C. Ch. 2 (1994)), but not from leasing under the mineral leasing laws, to protect the Bureau of Land Management's Row River Trail:

Willamette Meridian

T. 21 S., R. 1 W.,

Sec. 31, lot 2 of Tract No. 38.

And portions of the lands as more particularly described in the Lane County Oregon Deed Records as the Donation Deed, Reception No. 9462054 dated August 25, 1994, and recorded on August 25, 1994, Reel 1986R; the Donation Deed, Reception No. 9858998 dated March 18, 1998, and recorded on July 27, 1998, Reel 2446R; the Correction Donation Deed, Reception No. 99019928 dated February 4, 1999, and recorded on March 4, 1999, Reel 2523R; and the Donation Deed, Reception No. 99020855 dated January 26, 1999, and recorded on March 8, 1999, Reel 2524R, which lands traverse the following:

Willamette Meridian

T. 21 S., R. 1 W.

T. 22 S., R. 1 W.

T. 20 S., R. 2 W.

T. 20 S., R. 3 W.

T. 21 S., R. 3 W.

The areas described aggregate approximately 189.31 acres in Lane County.

2. Portions of the following described non-Federal lands, if acquired by the United States, will be subject to the terms and conditions of this withdrawal as described in paragraph 1:

Willamette Meridian

T. 21 S., R. 1 W.,

Sec. 19, lot 1;

Sec. 31, lot 1 of Tract 38, and SE¼NE¼;

Sec. 32, W½NW¼.

The areas described aggregate approximately 11.41 acres in Lane County.

3. The withdrawal made by this order does not alter the applicability of those public land laws governing the use of the lands under lease, license, or permit, or governing the disposal of their mineral or vegetative resources other than under the mining laws.

4. This withdrawal will expire 20 years from the effective date of this order unless, as a result of a review conducted before the expiration date pursuant to section 204(f) of the Federal Land Policy and Management Act of 1976, 43 U.S.C. 1714(f) (1994), the Secretary determines that the withdrawal shall be extended.

Dated: May 4, 2000.
Sylvia V. Baca,
Assistant Secretary of the Interior.

[FR Doc. 00-11995 Filed 5-11-00; 8:45 am]

BILLING CODE 4310-33-P